DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action takes effect on the date listed in Supplementary Information.

FOR FURTHER INFORMATION CONTACT: OFAC: Associate Director for Global Targeting, tel: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://ofac.treasury.gov).

Notice of OFAC Actions

On July 23, 2024, OFAC determined that the property and interests in property subject to U.S. jurisdiction of the following persons are blocked under the relevant sanctions authority listed below.

Individuals

1. BANUELOS RAMIREZ, Juan Carlos (a.k.a. “Pistones”; a.k.a. “Prada”; a.k.a. “PRADA, Juan Carlos”), Mexico; DOB 05 Oct 1977; POB Jalisco, Mexico; nationality Mexico; Gender Male; C.U.R.P. BARJ771005HJCXMN05 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. RIVERA IBARRA, Gerardo (a.k.a. “Compadre”; a.k.a. “El Guerito”), Mexico; DOB 29 Nov 1969; POB Jalisco, Mexico; nationality Mexico; Gender Male; C.U.R.P. RIIG691129HJCVBR16 (Mexico) (individual) [ILLICIT-DRUGS-EO14059] (Linked To: CARTEL DE JALISCO NUEVA GENERACION).

Designated pursuant to section 1(b)(iii) of E.O. 14059 for having acted or purported to act for or on behalf of, directly or indirectly, Cartel De Jalisco Nueva Generacion, a person sanctioned pursuant to E.O. 14059.

Entities

1. FORNELY LAB S.A. DE C.V. (a.k.a. KARMANI LAB S.A. DE C.V.), Naucalpan de Juarez, Mexico, Mexico; Organization Established Date 10 Apr 2014; Organization Type: Non-specialized wholesale trade; Folio Mercantil No. 23513 (Mexico) [ILLICIT-DRUGS-EO14059] (Linked To: RIVERA IBARRA, Gerardo).

Designated pursuant to section 1(b)(iii) of E.O. 14059 for being owned, controlled, or directed by, or having acted or purported to act for or on behalf of, directly or indirectly, Gerardo Rivera Ibarra, a person sanctioned pursuant to E.O. 14059.

2. INMOBILIARIA UNIVERSAL DEJA VU S.A. DE C.V., Puebla, Puebla, Mexico; Organization Established Date 18 Oct 2006; Organization Type: Real estate activities with own or leased property; Folio Mercantil No. 36681 (Mexico) [ILLICIT-DRUGS-EO14059] (Linked To: BANUELOS RAMIREZ, Juan Carlos).

Designated pursuant to section 1(b)(iii) of E.O. 14059 for being owned, controlled, or directed by, or having acted or purported to act for or on behalf of, directly or indirectly, Juan Carlos Banuelos Ramirez, a person sanctioned pursuant to E.O. 14059.

Dated: July 23, 2024.
Bradley T. Smith,
Director, Office of Foreign Assets Control, U.S. Department of the Treasury.

[FR Doc. 2024-16510 Filed 7-25-24; 8:45 am]

BILLING CODE P